DEPARTMENT OF HOMELAND SECURITY

Coast Guard

[Docket No. USCG-2007-27813]

New MARPOL Annex I Pollution Prevention Regulations; Information and Compliance Policy

AGENCY: Coast Guard, DHS.

ACTION: Notice of policy.

SUMMARY: This notice informs the public about new requirements of revised Annex I of the International Convention for the Prevention of Pollution from Ships (MARPOL 73/78), their associated entry into force dates, and compliance requirements for U.S. vessels that are subject to the Convention.

FOR FURTHER INFORMATION CONTACT: For information concerning this notice, contact Lieutenant Commander Scott Muller, Project Manager, Office of Vessel Activities, Domestic Vessel Division (CG-3PCV-1), telephone 202-372-1220 or via e-mail at Scott.W.Muller@uscg.mil. If you have questions on viewing material to the DOT Docket Management Facility docket, call Ms. Renee V. Wright, Program Manager, Docket Operations, telephone 202-493-0402.

SUPPLEMENTARY INFORMATION: The International Convention for the Prevention of Pollution from Ships (MARPOL 73/78) is the primary international agreement aimed at reducing pollution of the marine environment from a variety of vessel-generated sources. Annex I to MARPOL 73/78, “Regulations for the Prevention of Pollution by Oil,” contains provisions intended to reduce both intentional and accidental discharges of oil. Annex I was codified into U.S. law by the Act to Prevent Pollution from Ships at Sea 33 U.S.C. Sec. 1901 et seq. and with implementing regulations of 33 CFR parts 151, 155 and 157.

The entire annex was revised by adoption of Resolution MEPC.117(52) on October 15, 2004, and entered into force on January 1, 2007. In addition to adding new regulations, MARPOL Annex I was revised to be more user-friendly. It separates, by chapter, the requirements for: Survey and certification, machinery spaces of all ships, cargo areas of oil tankers, oil pollution emergency plans, reception facilities, and fixed or floating platforms. Additionally, where applicable, chapters are further divided by subpart concerning construction, equipment and operational requirements. Two new regulations were included in the revision:

• Regulation 22 of revised Annex I, “Pump-room bottom protection,” establishes design requirements for pump-room double bottoms on oil tankers of 5,000 tons deadweight and above constructed on or after January 1, 2007.

• Regulation 23 of revised Annex I, “Accidental oil outflow performance,” establishes design requirements to protect against oil pollution in the event of grounding or collision for oil tankers with a building contract on or after January 1, 2007 (or delivery on or after January 1, 2010).

In addition, on March 24, 2006, IMO adopted Resolution MEPC.141(54) which provided additional amendments that further revised MARPOL Annex I, which will enter into force on August 1, 2007. These amendments include a new regulation 12A:

• Regulation 12A of revised Annex I, “Oil fuel tank protection,” establishes design requirements for protectively located fuel tanks for all ships with an aggregate oil fuel capacity of 600 cubic meters (m3) and above with a building contract on or after August 1, 2007 (or delivery on or after August 1, 2010).

Reason for Policy Notice

As a signatory to the MARPOL 73/78 the U.S. government has an obligation to act in accordance with the convention. This obligation includes implementing and enforcing the new amendments to the convention for both U.S. vessels and foreign flagged vessels operating in U.S. waters. Thus, vessels required to have an International Oil Pollution Prevention (IOPP) certificate by the convention will need to meet the new revised regulations. Because the new revisions affect certain vessels subject to existing U.S. regulations, found at 33 CFR parts 157 and 155, the Coast Guard is developing a proposed rulemaking to harmonize existing U.S. regulations with the new revisions to the convention. In the interim, as a party to MARPOL 73/78, the United States will enforce the new MARPOL Annex I regulations as follows:

(a) U.S. flagged vessels that are required to hold an International Oil Pollution Prevention (IOPP) Certificate in accordance with 33 CFR 151.19: All U.S. vessels required to hold an IOPP Certificate must meet all requirements set out in MARPOL 73/78, including the new requirements, as applicable, established in recent IMO resolutions MEPC.117(52) and MEPC.141(54) discussed above that have come into force.

(b) U.S. flagged vessels that are not required to hold an IOPP Certificate: These vessels need not presently comply with the new MARPOL Annex I regulations, adopted by IMO resolutions MEPC.117(52) and MEPC.141(54) above. However, vessel operators are encouraged to comply with these new regulations in light of the Coast Guard's intention to revise domestic regulations (33 CFR 157 and 155) that will implement IMO resolution MEPC.117(52) and MEPC.141(54).

(c) Foreign vessels calling to the U.S. ports or terminals: The Coast Guard will enforce all applicable MARPOL Annex I regulations, including the new regulations adopted by IMO resolutions MEPC.117(52) and MEPC.141(54) discussed above.

Authority: 33 U.S.C. 1903, 33 U.S.C. 1231, 33 U.S.C. 1321, E.O. 12777, Department of Homeland Security Delegation No. 0170.1.

Dated: August 20, 2007.
J.G. Lantz,
Acting Assistant Commandant for Prevention, U.S. Coast Guard.

[FR Doc. E7-16725 Filed 8-24-07; 8:45 am]

BILLING CODE 4910-15-P